DEPARTMENT OF AGRICULTURE

Forest Service

North Finger Grazing Authorization Project, Malheur National Forest, Grant County, OR

AGENCY: Forest Service, USDA.

ACTION: Notice of intent to prepare an environmental impact statement.

SUMMARY: The USDA Forest Service will prepare an environmental impact statement (EIS) to disclose environmental effects on a proposed action to authorize grazing on all or portions of allotments within the North Finger Landscape. These allotments are within the Upper Deer Creek, Basin Creek, Upper Long Creek, Lower Fox Creek, Upper Fox Creek, and Upper Cottonwood Creek subwatersheds. The North Finger Grazing Authorization Project area, located approximately 20 miles northwest of John Day, Oregon, encompasses approximately 18,076 acres of National Forest System Lands administered by the Blue Mountain Ranger District, Malheur National Forest.

DATES: Comments concerning the scope of the analysis must be received by January 13, 2012. The draft environmental impact statement is expected June 2012 and the final environmental impact statement is expected September 2012.

ADDRESSES: Send written comments to the Responsible Official, Teresa Raaf, Forest Supervisor, Malheur National Forest, 431 Patterson Bridge Road, P.O. Box 909, John Day, Oregon 97845. Comments may also be sent via email to comments-pacificnorthwest-malheur@fs.fed.us, or via facsimile to (541) 575-3002.

FOR FURTHER INFORMATION CONTACT: Kelly Ware, Project Lead, Malheur National Forest, 431 Patterson Bridge Road, P.O. Box 909, John Day, Oregon, telephone (541) 575-3432, email kware@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this project is to authorize grazing on all or portions of the North Finger landscape in such a manner that will continue to move resource conditions toward desired conditions and be consistent with Forest Plan standards and guidelines.

The reason we are undertaking this process at this time is that courts in the 1990s found grazing permits should not be issued without an environmental analysis under the National Environmental Policy Act. In response, Congress passed the Range Rescission Act of 1995, requiring the Forest Service to develop and adhere to a schedule for completion of NEPA analysis on all its grazing allotments. This proposal and upcoming analysis are being undertaken in order to help meet that schedule as mandated by law.

Proposed Action

The proposed action is to continue to permit livestock grazing by incorporating adaptive management strategies across the North Finger landscape. Adaptive Management is defined as, “The process of making use of monitoring information to determine if management changes are needed, and if so, what changes, and to what degree.” An adaptive management strategy would define the desired resource conditions, monitoring requirements, resource triggers or thresholds, and actions to be taken if triggers are reached. Site-specific actions to move the existing ground conditions toward desired conditions could also be identified.

Possible Alternatives

Alternatives will include the proposed action, no action (no grazing), and additional alternatives that respond to issues generated during the scoping process. The agency will give notice of the full environmental analysis and decisionmaking process so interested and affected people may participate and contribute to the final decision.

Responsible Official

Teresa Raaf, Malheur National Forest Supervisor.

Nature of Decision To Be Made

The Responsible Official will decide if the proposed project will be implemented and will document the decision and reasons for the decision in a Record of Decision. That decision will be subject to Forest Service Appeal Regulations. The responsibility for preparing the DEIS and FEIS has been delegated to John Gubel, District Ranger, Blue Mountain Ranger District.

Preliminary Issues

During internal review, the Blue Mountain Ranger District has identified the following concerns or issues with the proposal: Livestock can affect plant community species compositions and vigor; Livestock can impact riparian areas and watershed conditions.

Scoping Process

This notice of intent initiates the scoping process, which guides the development of the environmental impact statement. Initial scoping began with the project listed in the 2011 Winter Edition of the Malheur National Forest's Schedule of Proposed Actions and public scoping conducted in June 2011.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: December 7, 2011.
Teresa Raaf,
Forest Supervisor.

[FR Doc. 2011-32022 Filed 12-13-11; 8:45 am]

BILLING CODE 3410-11-P